NATIONAL FOUNDATION ON THE ARTS AND THE HUMANITIES

Institute of Museum and Library Services

Sunshine Act Meeting of the National Museum and Library Services Board

AGENCY: Institute of Museum and Library Services (IMLS), NFAH.

ACTION: Notice of meeting.

SUMMARY: The National Museum and Library Services Board, which advises the Director of the Institute of Museum and Library Services on general policies with respect to the duties, powers, and authority of the Institute relating to museum, library and information services, will meet on May 19, 2015.

DATE AND TIME: Tuesday, May 19, 2015, from 9:00 a.m. to 12:00 p.m. EST.

PLACE: The meeting will be held at the Institute of Museum and Library Services, 1800 M Street NW., Suite 900, Washington, DC, 20036. Telephone: (202) 653-4798.

STATUS: This meeting will be open to the public.

AGENDA: Thirty-First Meeting of the National Museum and Library Service Board Meeting:

I. Welcome

II. Financial Update

III. Partnership Update

IV. Office of Museum Services Update and Program

V. Office of Library Services Update and Program

VI. Office of Planning, Research, and Evaluation Update

FOR FURTHER INFORMATION CONTACT: Katherine Maas, Program Specialist, Institute of Museum and Library Services, 1800 M Street NW., 9th Floor, Washington, DC 20036. Telephone: (202) 653-4676. Please provide advance notice of any special needs or accommodations.

Dated: April 27, 2015.
Andrew Christopher,
Associate General Counsel.

[FR Doc. 2015-10114 Filed 4-27-15; 4:15 pm]

BILLING CODE 7036-01-P